DEPARTMENT OF STATE

[Public Notice: 7020]

Bureau of International Security and Nonproliferation; Determination Under the Foreign Assistance Act and the Department of State, Foreign Operations, and Related Programs Appropriations Acts

AGENCY: Department of State.

ACTION: Notice.

SUMMARY: A decision has been made to remove the restrictions imposed on the Tula Instrument Design Bureau (KBP) and rescind Federal Register Notice 3039, from April 29, 1999.

DATES: Effective Date: May 21, 2010.

FOR FURTHER INFORMATION CONTACT: Brian Bachman, Office of Conventional Arms Threat Reduction, Bureau of International Security and Nonproliferation, Department of State (202-647-3937).

SUPPLEMENTARY INFORMATION: A decision was made on May 12, 2010, that it is in the foreign policy or national security interests of the United States to remove the restrictions imposed on the Tula Instrument Design Bureau (KBP) on April 29, 1999 under Federal Register notice 3039.

Dated: May 17, 2010.
C.S. Eliot Kang,
Acting Assistant Secretary of State for International Security and Nonproliferation, Department of State.

[FR Doc. 2010-12322 Filed 5-20-10; 8:45 am]

BILLING CODE 4710-27-P